OFFICE OF PERSONNEL MANAGEMENT

Submission for OMB Review; Comment Request Review of Information Collection: Instructions and Form 1417

AGENCY: Office of Personnel Management.

ACTION: Notice.

SUMMARY: In accordance with the Paperwork Reduction Act of 1995 (Pub. L. 104-13, May 22, 1995), Pub. L. this notice announces that the Office of Personnel Management has submitted to the Office of Management and Budget a request for clearance of a revised information collection. OPM Form 1417, Combined Federal Campaign Annual Results Reporting Form, is used to collect information from the 387 local CFC's around the country to verify campaign results.

We estimate 387 OPM Form 1417's are completed annually. Each form takes approximately 60 minutes to complete. The annual estimated burden is 387 hours.

For copies of this proposal, contact Mary Beth Smith-Toomey on 202/606-8358, or e-mail to mbtoomey@opm.gov.

Comments on this proposal should be received within 10 calendar days from the date of this publication.

ADDRESSES: Send or deliver comments to: Jennifer M. Hirschmann, Office of CFC Operations, U.S. Office of Personnel Management, 1900 “E” Street, NW, Room 5450, Washington, DC 20415 And Joseph Lackey, OPM Desk Officer, Office of Information and Regulatory Affairs, Office of Management and Budget, New Executive Office Building, NW, Room 10235, Washington, DC 20503.

For information regarding administrative coordination contact: Jennifer Hirschmann, Combined Federal Campaign Operations, 202/606-2564.

Office of Personnel Management.
Janice R. Lachance,
Director.

[FR Doc. 00-3356 Filed 2-11-00; 8:45 am]

BILLING CODE 6325-01-U